DEPARTMENT OF COMMERCE

National Oceanic and Atmospheric Administration

RIN 0648-XA433

Public Meeting of the Steering Committee for the National Fish, Wildlife and Plants Climate Adaptation Strategy

AGENCY: National Marine Fisheries Service (NMFS), National Oceanic and Atmospheric Administration (NOAA), Commerce.

ACTION: Notice.

SUMMARY: The Steering Committee for the National Fish, Wildlife, and Plants Climate Adaptation Strategy will be holding its second meeting. This meeting will focus on the progress of the Strategy's Technical Teams and stakeholder engagement.

DATES: The second Steering Committee meeting will be held Wednesday, June 1, 2011, from 1:15 p.m. to 4 p.m. There will be opportunity for public comment during the meeting at approximately 3 p.m., and written comments may be submitted via the Web site http://www.wildlifeadaptation.gov.

ADDRESSES: The meeting will be held in the Spring Room of the Silver Spring Civic Building, One Veterans Place (corner of Ellsworth Drive and Fenton Street), Silver Spring, Maryland 20910. Additional information on the National Fish, Wildlife, and Plants Climate Adaptation Strategy can be found at http://www.wildlifeadaptationstrategy.gov.

FOR FURTHER INFORMATION CONTACT: Roger Griffis, Climate Change Coordinator, Office of Science and Technology, NMFS/NOAA, 1315 East-West Highway, 12th Floor, Silver Spring, Maryland 20910, or Roger.B.Griffis@noaa.gov.

SUPPLEMENTARY INFORMATION:

Background

The National Fish, Wildlife, and Plants Climate Adaptation Strategy (Strategy) is an integrated, coordinated, and comprehensive response to the threats of climate change. This multi-partner effort will outline a unified approach to maintaining the key terrestrial, freshwater and marine ecosystems needed to sustain fish, wildlife and plant resources and the services they provide in the face of accelerating climate change.

The Strategy will be guided by input and participation from a diverse group of agencies from across the country. For this reason, Federal, State and tribal agencies have been asked to participate as members of an intergovernmental Steering Committee to provide advice and support for development of the Strategy by 2012.

The Steering Committee consists of representatives from 16 Federal agencies with management authorities for fish, wildlife, plants, or their habitat, as well as representatives from five state fish and wildlife agencies and two tribal commissions. The purpose of the Steering Committee is to exchange views, information, and advice relating to the management and implementation of the Strategy. The Committee will oversee the Technical (writing) Teams, ensure a robust engagement process with a diverse group of stakeholders, and facilitate coordination and communication across agencies and departments.

Special Accommodations

These meetings are physically accessible to people with disabilities. Requests for sign language interpretation or other auxiliary aids should be directed to Helen Allen, (907) 271-2809, at least 5 working days prior to the meeting date.

Authority: 16 U.S.C. 1801 et seq.

Dated: May 9, 2011.
Eric C. Schwaab,
Assistant Administrator for Fisheries, National Marine Fisheries Service.

[FR Doc. 2011-11815 Filed 5-12-11; 8:45 am]

BILLING CODE 3510-22-P